DEPARTMENT OF HEALTH AND HUMAN SERVICES

National Toxicology Program (NTP); Liaison and Scientific Review Office (LSRO); NTP Board of Scientific Counselors Meeting Rescheduled

AGENCY: National Institute of Environmental Health Sciences (NIEHS), National Institutes of Health (NIH), HHS.

ACTION: Meeting announcement.

SUMMARY: Pursuant to Public Law 92-463, notice is hereby given of a meeting of the National Toxicology Program (NTP) Board of Scientific Counselors. Please be advised that the NTP Board of Scientific Counselors meeting originally scheduled for June 23, 2005, as published in the Federal Register (Vol. 80, No. 93 pp. 25830-25831) on May 16, 2005 is postponed to August 18, 2005. The tentative agenda published in the May 16 notice and the guidelines for submitting public comments or making an oral presentation at the meeting still apply. Any updates to the agenda or additional information and background materials will be posted on the NTP Web site (http://ntp.niehs.nih.gov/ select “Advisory Boards and Committees”) and provided upon request from the NTP (see FOR FURTHER INFORMATION CONTACT below).

DATES: The date for receiving public comments has been extended. Written comments should be received by August 8, 2005, to enable review by the NTP Board and NIEHS/NTP staff prior to the meeting. In order to facilitate planning for this meeting, persons wishing to make an oral presentation on any agenda topic are asked to notify the Executive Secretary for the NTP Board by August 8, 2005 (see FOR FURTHER INFORMATION CONTACT below). Persons needing special assistance, such as sign language interpretation or other reasonable accommodation, in order to attend are asked to notify the NTP at least 7 business days in advance of the meeting.

FOR FURTHER INFORMATION CONTACT: Public comments and any other correspondence should be submitted to Dr. Barbara Shane, Executive Secretary for the NTP Board (NTP Liaison and Scientific Review Office, NIEHS, P.O. Box 12233, MD A3-01, Research Triangle Park, NC 27709; telephone: 919-541-4253, fax: 919-541-0295; or e-mail: shane@niehs.nih.gov).

Dated: June 21, 2005.
Samuel H. Wilson,
Deputy Director, National Institute of Environmental Health Sciences.

[FR Doc. 05-12972 Filed 6-30-05; 8:45 am]

BILLING CODE 4140-01-P